DEPARTMENT OF VETERANS AFFAIRS

Veterans' Disability Benefits Commission; Notice of Meeting

The Department of Veterans Affairs (VA) gives notice under Public Law 92-463 (Federal Advisory Committee Act) that the Veterans' Disability Benefits Commission has scheduled a meeting on May 9 and 10, 2005, at Sofitel Lafayette Square Hotel, 806 15th Street, NW., Washington, DC 20005. The meeting will convene at 8 a.m. and conclude at 5 p.m each day and is open to the public.

The purpose of the Commission is to carry out a study of the benefits under the laws of the United States that are provided to compensate and assist veterans and their survivors for disabilities and deaths attributable to military service. The Commission will receive briefings intended to provide an understanding of programs managed by the Department of Veterans Affairs and other Federal departments and agencies for disabled veterans and their survivors. The Commission will also take testimony from representatives of interested stakeholders and the public concerning issues relating to these benefits that should be addressed by the Commission. Stakeholder groups include veterans' service organizations and military associations.

The agenda for May 9 includes an introduction of Commission members, a description and the legislative history of VA's disability compensation program, Commission responsibilities, ethics requirements, other federal disability and survivor programs, and a review of literature concerned with disability issues. Agenda items for May 10 include testimony by panels comprised of representatives from veterans' service organizations and military associations.

Interested persons may attend and present oral statements to the Commission. Interested parties can provide written comments for review by the Commission in advance of the meeting to Mr. Ray Wilburn, Acting Executive Director, Program Evaluation Service (008B2), Department of Veterans Affairs, 810 Vermont Avenue, NW., Washington, DC 20420. Individuals who wish to attend the meeting should contact Mr. Wilburn at (202) 273-7509 or by e-mail at vetscommission@va.gov.

Dated: April 15, 2005.
By direction of the Secretary.
E. Philip Riggin,
Committee Management Officer.

[FR Doc. 05-7986 Filed 4-20-05; 8:45 am]

BILLING CODE 8320-01-M